DEPARTMENT OF THE INTERIOR

National Park Service

[NPS-WASO-NAGPRA-17549; PPWOCRADN0-PCU00RP14.R50000]

Notice of Inventory Completion: Kerr County Attorney's Office, Kerr County, TX

AGENCY: National Park Service, Interior.

ACTION: Notice.

SUMMARY: The Kerr County Attorney's Office has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Kerr County Attorney's Office. If no additional requestors come forward, transfer of control of the human remains to the lineal descendants, or Indian tribes, or Native Hawaiian organizations stated in this notice may proceed.

DATES: Lineal descendants or representatives of any Indian tribe or Native Hawaiian organization not identified in this notice that wish to request transfer of control of these human remains should submit a written request with information in support of the request to the Kerr County Attorney's Office at the address in this notice by March 30, 2015.

ADDRESSES: Heather Stebbins, Kerr County Attorney, 700 Main Street, Suite BA-103, Kerrville, TX 78028, telephone (830) 792-2220, email cmc@co.kerr.tx.us.

SUPPLEMENTARY INFORMATION: Notice is here given in accordance with the Native American Graves Protection and Repatriation Act (NAGPRA), 25 U.S.C. 3003, of the completion of an inventory of human remains under the control of the County of Kerr, Kerr County Attorney's Office, Kerrville, TX. The human remains were removed from Kerr County, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Kerr County Sheriff's Department Evidence Submission professional staff. Kerr County Justice of the Peace Precinct #4, Justice William Ragsdale has consulted with representatives of the Comanche Nation, Oklahoma, the Mescalero Apache Tribe of the Mescalero Reservation, New Mexico, and the Lipan Apache Band of Texas, a non-Federally recognized Indian group.

History and Description of the Remains

In May 2009, human remains representing, at minimum, one individual were removed from private property along a river bank in Kerr County, TX. Individuals clearing land along a dry river bank on private property discovered some fragmented bones in a niche. Believing the bones to possibly be human remains, the fragments were reported to the ranch manager, who advised that there had been other fragments removed from the same area in 2005. The Kerr County Sheriff's Department was notified, took photos, and removed additional fragments from the river bank in Kerr County, TX. The remains were then taken to the Kerr County Sheriff's Department secure evidence storage. The University of North Texas Center for Human Identification, Laboratory of Forensic Anthropology evaluated the bone fragments and prepared a report. The report concluded that the remains are historical/archeological in origin and are at least 100-200 years old. The remains were from one male individual, approximately 24 years of age, and most importantly, the remains are of Amerindian ancestry. No known individuals or specific tribal affiliation were identified. No associated funerary objects were present.

According to anthropologist Harrell Gill-King, Ph.D., D-ABFA, the Lipan Apache inhabited the entire length of the Guadalupe River basin 100 to 200 years ago. According to Daniel Castro Romero, Jr., General Council Chairman, Lipan Apache Band of Texas, the Lipan Apache have historically used this geographical area for traditional hunting and burial. Mr. Romero believes that the Apache affiliation has been verified through previous scholarship. NAGPRA affiliate, Randy Barnes, has advised Kerr County that the area in question is traditional hunting and burial area of the Lipan Apache. This particular area in the Texas Hill Country has had several known tribal groups that were in the area within the estimated time period. The Lipan Apache, the Payaya Indians, the Carrizo Indians, and possibly the Comanche utilized the niche methods of burial. The last tribe with historical affiliation in the area was the Lipan Apache Band under Chief Castro, whose sons were scouts for the Texas Rangers.

Determinations Made by the Kerr County Attorney's Office

Officials of the Kerr County Attorney's Office have determined that:

• Pursuant to 25 U.S.C. 3001(9), the human remains described in this notice represent the physical remains of one individual of Native American ancestry.

• Pursuant to 25 U.S.C. 3001 (2), there is a relationship of shared group identity that can be reasonably traced between the Native American human remains and the Comanche Nation, Oklahoma, and the Mescalero Apache Tribe of the Mescalero Reservation, New Mexico.

Additional Requestors and Disposition

Lineal descendants or representatives of any Indian tribe or Native Hawaiian organization not identified in this notice that wish to request transfer of control of these human remains should submit a written request with information in support of the request to Heather Stebbins, Kerr County Attorney, 700 Main Street, Suite BA-103, Kerrville, TX 78028, telephone (830) 792-2220, email cmc@co.kerr.tx.us, by March 30, 2015. After that date, if no additional requestors have come forward, transfer of control of the human remains to the Comanche Nation, Oklahoma, and the Mescalero Apache Tribe of the Mescalero Reservation, New Mexico, may proceed.

The Kerr County Attorney's office is responsible for notifying the Comanche Nation, Oklahoma, the Mescalero Apache Tribe of the Mescalero Reservation, New Mexico, and the Lipan Apache Band of Texas, a non-Federally recognized Indian group, that this notice has been published.

Dated: January 23, 2015.
Melanie O'Brien,
Acting Manager, National NAGPRA Program.

[FR Doc. 2015-04058 Filed 2-25-15; 8:45 am]

BILLING CODE 4312-50-P